FEDERAL MARITIME COMMISSION

Ocean Transportation Intermediary License Applicants

This supersedes the Federal Register Notice published August 25, 2004 (69 FR 52269) as follows:

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants:

Holiday Shipping, 5522 Old National Hwy, Ste. C-120, College Park, GA 30349, Marie S. Carew, Sole Proprietor.

Dean & Associates Freight System Inc., 225-10 Merrick Blvd., Laurelton, NY 11413. Officers: Troy A. Dean, President (Qualifying Individual), Yvonne Tucker, Vice President.

Shanghai City Union Logistics Network Co., Ltd., 1641 W. Main Street, #418, Alhambra, CA 91801. Officer: Willie Yong-Chuan Wu, President (Qualifying Individual).

Transcom Express, Inc., 80 Broad Street, Suite 11M, Red Bank, NJ 07701. Officers: Elizabeth M. Magistro, President (Qualifying Individual), Ajayveer Choktopat, Secretary.

Consolidated Logistics LLC, 7806 NW 71st Street, Miami, FL 33166. Officers: Heriberto Sanchez, Jr., Operational Manager (Qualifying Individual), Allerson B. Sardinha, President.

Non-Vessel-Operating Common Carrier and Ocean Freight Forwarder Transportation Intermediary Applicants:

Uniwide Cargomovers & Travel, Inc., 21800 Dolores Street, Carson, CA 90745. Officers: Efren T. Arriola, President (Qualifying Individual), Maximo T. Arriola, Treasurer.

Just Cargo, LLC dba Just Cargo Lines, 2799 NW 82nd Avenue, Miami, FL 33122. Officer: Gustavo Alejandro Verite, President (Qualifying Individual).

Concert Group Logistics, LLC, 2234 Wisconsin Avenue, Downers Grove, IL 60515. Officers: Gerald Post, Exec. Vice President (Qualifying Individual), Daniel Para, President.

Ambrit-USA Inc., 2710 NW 30th Avenue, Lauderdale Lakes, FL 33311. Officer: Malcolm Garrett, President (Qualifying Individual).

Ocean Freight Forwarder—Ocean Transportation Intermediary Applicants:

MK Shipping Inc., 4720 Griggs Road, Houston, TX 77021. Officers: Fakher Nawar, Office Manager (Qualifying Individual), Moustafa Keshta, President.

Domicilio Expreso Dominicano (Domex) Corp., 3260 Cruger Avenue, Suite 2F, Bronx, NY 10469. Officer: Noris Abreu, President (Qualifying Individual).

FLS-USA Forwarding, Ltd., 15955 West Hardy, Suite 222, Houston, TX 77060. Officer: Paul M. Garcia, Manager (Qualifying Individual).

Dated: September 3, 2004.
Bryant L. VanBrakle,
Secretary.

[FR Doc. 04-20474 Filed 9-9-04; 8:45 am]

BILLING CODE 6730-01-P